DEPARTMENT OF HEALTH AND HUMAN SERVICES

Office of the Secretary; Agency Information Collection Activities Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Survey of Research Integrity Measures Utilized in Biomedical Research Laboratories—NEW—The Office of Research Integrity (ORI) in performing its responsibilities, expanded its education program to promote research integrity and discourage research misconduct. As part of this education program the proposed survey will identify the measures that are being utilized by the institutions to prevent misconduct and promote research integrity in biomedical research laboratories, and establish a database on biomedical research laboratories that may be used for secondary analysis by other researchers interested in research integrity. Respondents: Business or other for-profit, Non-profit institutions; Burden Information—Number of Respondents: 5000; Frequency of Response: one time; Average Burden per Response: 15 minutes; Burden: 1,250 hours.

Send comments via e-mail to Geerie.Jones@HHS.gov, or mail to OS Reports Clearance Office, Room 503H, Hubert H. Humphrey Building, 200 Independence Avenue SW., Washington, DC 20201. Comments should be received within 60 days of this notice.

Dated: October 30, 2001.
Kerry Weems,
Acting Deputy Assistant Secretary, Budget.

[FR Doc. 01-27981 Filed 11-6-01; 8:45 am]

BILLING CODE 4150-31-M